DEPARTMENT OF THE INTERIOR

Bureau of Land Management

[NV912-07-1020 PH-006F]

Notice of Public Meetings, Mojave Southern Great Basin Resource Advisory Council

AGENCY: Bureau of Land Management, Interior.

ACTION: Notice of Resource Advisory Council meetings, locations and times.

SUMMARY: In accordance with the Federal Land Policy and Management Act (FLPMA) and the Federal Advisory Committee Act of 1972 (FACA), the U.S. Department of the Interior, Bureau of Land Management (BLM) Mojave Southern Great Basin Resource Advisory Council (RAC) will meet as indicated below.

DATES: The Mojave Southern Great Basin RAC meetings will be held January 11-12, 2007; March 8-9, 2007; June 14-15, 2007; and August 16-17, 2007.

ADDRESSES: The Mojave Southern Great Basin RAC meetings will be held January 11-12, and March 8-9 at the BLM Las Vegas Field Office, located at 4701 N. Torrey Pines Drive, Las Vegas, NV; June 14-15, 2007 at the (Meeting location TBD), Ely, NV; August 16-17, 2007, (Meeting location TBD) Tonopah, NV. Generally Mojave Southern Great Basin RAC meetings begin at 8 and 9 a.m. and adjourn at approximately 4-5 p.m.

SUPPLEMENTARY INFORMATION: The Mojave Southern Great Basin RAC advises the Secretary of the Interior, through the Bureau of Land Management, on a variety of public land issues in Nevada.

Topics of discussion during Mojave Southern Great Basin RAC meetings will likely include: Recreation, fire management, land use planning, invasive species management, energy and minerals management, travel management, water, wilderness, wild horse herd management, cultural resource management, the Southern Nevada Public Lands Management Act, and other issues as appropriate.

Final agendas, with any additions/corrections to agenda topics, the starting and ending times of each meeting, and details of any planned field trips, will be determined/posted at least two weeks before each two-day meeting on the BLM-Nevada State Office Web site at http://www.nv.blm.gov/rac; hard copies of the agendas can also be mailed or sent via fax. Individuals who need special assistance such as sign language interpretation or other reasonable accommodations, or those who wish a hard copy of the agenda, should contact Hillerie C. Patton, Las Vegas Field Office, 4701 N. Torrey Pines Dr, Las Vegas, NV 89130, 702-515-5046, or hillerie_c_patton@blm.gov no later than two weeks before each two-day meeting.

These meetings are open to the public. Each formal RAC meeting will also have time allocated for hearing public comments. Depending on the number of persons wishing to comment and time available, the time for individual oral comments may be limited. Also, the public may present written comments to the RAC.

FOR FURTHER INFORMATION CONTACT: Hillerie C. Patton, Mojave Southern Great Basin RAC Coordinator at 702-515-5046 or hillerie_c_patton@blm.gov.

Dated: November 24, 2006.
Angie Lara,
Las Vegas Associate Field Manager.

[FR Doc. 06-9494 Filed 12-1-06; 8:45 am]

BILLING CODE 4310-HC-M